DEPARTMENT OF HEALTH AND HUMAN SERVICES

Substance Abuse and Mental Health Services Administration

Rescinding Policy for Resubmitting Revised Applications in Response to SAMHSA Program Announcements

SUMMARY: On March 12, 2001, (FR Vol. 66, No. 48, pages 14410-14411), the Substance Abuse and Mental Health Services Administration (SAMHSA), HHS, published policy outlining procedures that applicants were required to follow when resubmitting revised applications in response to SAMHSA Program Announcements. The purpose of this notice is to rescind the policy effective February 1, 2003.

SUPPLEMENTARY INFORMATION: The Substance Abuse and Mental Health Services Administration and its three Centers, the Center for Substance Abuse Treatment (CSAT), the Center for Mental Health Services (CMHS), and the Center for Substance Abuse Prevention (CSAP), publish Program Announcements and Requests for Applications (RFAs) to solicit applications for their grant programs. Program Announcements, unlike RFAs, have continuous application receipt dates; thereby, giving applicants an opportunity to resubmit, for a later receipt date, revised applications that were not funded. Although applicants may still revise and resubmit applications, effective February 1, 2003, SAMHSA is rescinding the policy that outlined specific instructions for revising and resubmitting the applications.

Contact: Ms. Sandra Stephens, Extramural Policy Team Leader, Division of Planning and Budget, Office of Policy, Planning, and Budget, Substance Abuse and Mental Health Services Administration. Telephone: (301) 443-9916; Fax: (301) 443-1659.

Dated: February 7, 2003.
Richard Kopanda,
Executive Officer, SAMHSA.

[FR Doc. 03-3595 Filed 2-12-03; 8:45 am]

BILLING CODE 4162-20-P